DEPARTMENT OF JUSTICE

Notice of Lodging of Two Consent Decrees Between the United States of America and Midland Refining Company, Inc., Clear Water Trucking Company, Inc., Rosann Harpster, and Lewis W. Williams Under the Comprehensive Environmental Response, Compensation, and Liability Act

Under 28 CFR 50.7, notice is hereby given that on July 10, 2006, two proposed Consent Decrees in the case of United States v. Midland Refining Company, Inc., Clear Water Trucking Company, Inc., Rosann Harpster, and Lewis W. Williams, Jr., Civil Action No. 06-1200-JTM, has been lodged with the United States District Court for the District of Kansas.

The Complaint sought the recovery of costs incurred in connection with response actions taken by the United States Environmental Protection Agency at the 57th and North Broadway Superfund Site in Wichita, Kansas.

Under the terms of the first Consent Decree (the Midland Consent Decree), Midland Refining Company, Inc., Clear Water Trucking, Inc., and Rosann Harpster will make payments to the United States totaling $79,000. Under the terms of the second Consent Decree (the Williams Consent Decree), Lewis W. Williams, Jr. will make payments to the United States totaling $110,000.03, and will make additional payments of a percentage of the gross income derived from certain “Property” as defined in the Consent Decree. In exchange, the United States will provide a covenant not to sue and contribution protection to all of the Defendants.

The Department of Justice will receive for a period of thirty (30) days from the date of this publication comments relating to the Consent Decrees. Comments should be addressed to the Assistant Attorney General, Environment and Natural Resources Division, P.O. Box 7611, U.S. Department of Justice, Washington, DC 20044-7611, and should refer to United States v. Midland Refining Company, Inc., et al., Civil Action No. 06-1200-JTM (D. Kan.), D.J. Ref. 90-11-3-1737/1.

During the public comment period, the Consent Decrees may be examined on the following Department of Justice Web site: http://www.usdoj.gov/enrd/open.html. Copies of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $6.75 for the Midland Consent Decree, in the amount of $8.50 for the Williams Consent Decree, or in the amount of $15.25 for both Consent Decrees (25 cents per page reproduction cost) payable to the United States Treasury.

Robert E. Maher, Jr.,
Assistant Section Chief, Environmental Enforcement Section, Environment and Natural Resources Division.

[FR Doc. 06-6992 Filed 8-17-06; 8:45 am]

BILLING CODE 4410-15-M